DEPARTMENT OF COMMERCE

National Oceanic and Atmospheric Administration

50 CFR Part 635

RIN 0648-BA17

Atlantic Highly Migratory Species; Environmental Assessment for Amendment 6 to the 2006 Consolidated Atlantic Highly Migratory Species Fishery Management Plan

AGENCY: National Marine Fisheries Service (NMFS), National Oceanic and Atmospheric Administration (NOAA), Commerce.

ACTION: Notice of intent to prepare an Environmental Assessment.

SUMMARY: NMFS announces its intent to prepare an Environmental Assessment (EA) for Amendment 6 to the 2006 Consolidated Atlantic Highly Migratory Species (HMS) Fishery Management Plan (FMP) instead of an Environmental Impact Statement (EIS), as previously announced through publication of a Notice of Intent published on September 16, 2011. NMFS intends to prepare the EA as required by the National Environmental Policy Act (NEPA) to assess the potential effects on the human environment of proposed alternatives and actions in Amendment 6 to the 2006 Consolidated HMS FMP. The EA will analyze potential environmental impacts of various proposed alternatives related to the Atlantic commercial shark fisheries consistent with the Magnuson-Stevens Fishery Conservation and Management Act (Magnuson-Stevens Act) and other relevant Federal Laws.

DATES: NMFS tentatively expects to release the EA for Amendment 6 to the 2006 Consolidated HMS FMP in September 2014.

ADDRESSES: Members of the public requesting background material on Amendment 6 to the 2006 Consolidated HMS FMP should contact LeAnn Hogan by phone or by mail at 1315 East-West Highway, Silver Spring, MD 20910.

FOR FURTHER INFORMATION CONTACT: LeAnn Hogan by phone: (301) 427-8503, or by fax: (727) 824-5398.

SUPPLEMENTARY INFORMATION: The Atlantic shark fisheries are managed under the authority of the Magnuson-Stevens Act. The 2006 Consolidated HMS FMP is implemented by regulations at 50 CFR part 635. The NOI published on September 16, 2011 (76 FR 57709) that announced NMFS' intent to consider catch shares for the Atlantic shark fisheries and established a control date for eligibility to participate in any potential catch share program. While NMFS received a variety of comments on the 2011 NOI, many of the commenters opposed the idea of catch shares for the Atlantic shark fisheries. These NOI comments, along with recent shark fishery trends and management changes, have led NMFS to re-consider whether catch shares are the best management tool for the Atlantic shark fisheries at this time. Catch shares remain a potential future management tool that could address some of the issues in the Atlantic shark fisheries. At this time, short-term management measures may better address the current issues facing these fisheries, while potentially economically benefitting the Atlantic shark fisheries. NMFS therefore intends to move forward with a proposal for short-term management measures for the Atlantic shark fisheries that will achieve the goals and objectives of increasing management flexibility to achieve optimum yield while rebuilding overfished stocks and ending overfishing. As required under NEPA, NMFS will analyze potential environmental impacts of various alternatives regarding proposed changes to regional sub-quotas and permit structures for the commercial shark fisheries in U.S. waters of the Atlantic Ocean. NMFS anticipates that the proposed actions would have a low level of potential environmental impact due to the fact that the purpose of Amendment 6 is to propose management measures that have the flexibility to maximize the sustainable yield of the Atlantic shark fisheries, while staying within the acceptable biological catch levels of the various shark management groups in order to achieve optimum yield, rebuild overfished stocks, and end overfishing, as appropriate. Additionally, any potential impacts to protected species would be expected to be minimal. Thus, after consideration of substantive comments received on the 2011 NOI and a preliminary assessment of potential environmental impacts associated with management measures other than a catch share program, NMFS has determined that that an EA will provide an appropriate level of NEPA review to assess the potential effects on the human environment of proposed alternatives and actions under Amendment 6 to the 2006 Consolidated HMS FMP and that preparation of an EIS is not necessary.

Authority: 16 U.S.C 1801 et seq.

Dated: May 16, 2014.
Alan D. Risenhoover,
Director, Office of Sustainable Fisheries, National Marine Fisheries Service.

[FR Doc. 2014-11896 Filed 5-23-14; 8:45 am]

BILLING CODE 3510-22-P